DEPARTMENT OF COMMERCE

National Oceanic and Atmospheric Administration

[I.D. 051002G]

Fisheries of the South Atlantic; Executive Committee Meeting

AGENCY: National Marine Fisheries Service (NMFS), National Oceanic and Atmospheric Administration (NOAA), Commerce.

ACTION: Notice of law enforcement committee meeting.

SUMMARY: The South Atlantic Fishery Management Council (Council) will hold a meeting of its Executive Committee in Charleston, SC.

DATES: The meeting will take place on June 3-4, 2002.

ADDRESSES: The meeting will be held at the Town & Country Inn, 2008 Savannah Highway, Charleston, SC 29407; telephone: 843-571-1000; fax: 843-766-9444.

Council address: South Atlantic Fishery Management Council, One Southpark Circle, Suite 306, Charleston, SC 29407.

FOR FURTHER INFORMATION CONTACT: Kim Iverson, Public Information Officer; telephone: 843-571-4366; fax: 843-769-4520.

SUPPLEMENTARY INFORMATION: The Executive Committee will meet from 1:30 p.m. until 5 p.m. on June 3, 2002 (closed session), and again from 8:30 a.m. until 1 p.m. on June 4, 2002.

The Committee will meet in closed session on Monday, June 3, to receive legal briefing on recent court rulings regarding bycatch, overfished species and other issues and how they will affect Council actions. On Tuesday, June 4, the Executive Committee will meet in open session to discuss a request from the Secretary of Commerce for a response from the Council regarding a recent petition for rulemaking on bycatch (Federal Register Notice, 67 FR 19154, April 18, 2002). In addition, the Committee will discuss avenues for moving forward with fishery management plans and amendments currently being developed for submission to the Secretary of Commerce relevent to recent court rulings affecting fisheries management.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by May 31, 2002.

Dated: May 13, 2002.
Richard W. Surdi,
Acting Director, Office of Sustainable Fisheries, National Marine Fisheries Service.

[FR Doc. 02-12476 Filed 5-16-02; 8:45 am]

BILLING CODE 3510-22-S